DEPARTMENT OF HOUSING AND URBAN DEVELOPMENT

[Docket No. FR-7001-N-06]

30-Day Notice of Proposed Information Collection: Public Housing Agencies Service Areas Solicitation of Comments: Withdrawal

AGENCY: Office of the Chief Information Officer, HUD.

ACTION: Notice.

SUMMARY: On February 13, 2018, HUD inadvertently published a 30-day notice of proposed information collection entitled Public Housing Agencies Service Areas Solicitation of Comments. HUD will republish the notice in the Federal Register at a later date. This notice withdraws the notice published on February 13, 2018.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

Dated: February 16, 2018.
Colette Pollard,
Department Report Management Officer, Office of the Chief Information Officer.

[FR Doc. 2018-03661 Filed 2-21-18; 8:45 am]

BILLING CODE 4210-67-P